DEPARTMENT OF ENERGY

Federal Energy Regulatory Commission

[Docket No. P-516-380]

South Carolina Coastal Conservation League and American Rivers, Complainants, v. South Carolina Electric & Gas Company, Respondent; Notice of Complaint

October 17, 2003.

Take notice that on September 9, 2003, as amended on October 15, 2003, South Carolina Coastal Conservation League and American Rivers (Complainants) filed with the Federal Regulatory Commission (Commission) a complaint against South Carolina Electric & Gas Company (Respondent), licensee of the Saluda Project No. 516. Complainants allege that Respondent is operating the project in a manner such that the standard for dissolved oxygen in the reach of the Saluda River below the project is not being met, and request that Respondent be ordered to comply with that standard.

Respondent's answer to the complaint and all comments, protest, and motions to intervene from any other person desiring to be heard on this matter must be filed with the Commission's Secretary at 888 First Street, NE., Washington, DC 20426, on or before the date shown below. Protests will be considered by the Commission in determining the appropriate action to be taken, but will not serve to make protestants parties to the proceeding. Any person wishing to become a party must file a motion to intervene.

The answer to the complaint, as well as comments, protests, and motions to intervene, may be filed electronically via the Internet in lieu of paper filing. See 18 CFR 385.2001(a)(1)(iii) and the instructions under the “eFiling” link in the Documents & Filing section of the Commission's web site at www.ferc.gov. The Commission strongly encourages electronic filing.

The complaint is available for review in the Commission's Public Reference Room 2A, and may also be viewed on the Commission's web site using the “eLibrary” link. For assistance with the Commission's web site, please contact FERC Online Support at FERCOnlineSupport@ferc.gov or call toll-free (866) 208-3676, for TTY, call (202) 502-8659.

Comment Date: November 4, 2003.

Magalie R. Salas,
Secretary.

[FR Doc. E3-00112 Filed 10-24-03; 8:45 am]

BILLING CODE 6717-01-P